ENVIRONMENTAL PROTECTION AGENCY

40 CFR Part 52

[EPA-R04-OAR-2014-0507; FRL-9965-82-Region 4]

Air Plan Approval; Florida: Infrastructure Requirements for the 2010 NO2 NAAQS

AGENCY: Environmental Protection Agency.

ACTION: Proposed rule.

SUMMARY: The Environmental Protection Agency (EPA) is approving a portion of the State Implementation Plan (SIP) submission, submitted by the State of Florida, through the Florida Department of Environmental Protection, on January 22, 2013, addressing the Clean Air Act (CAA or Act) infrastructure requirements for the 2010 1-hour nitrogen dioxide (NO2) national ambient air quality standard (NAAQS). The CAA requires that each state adopt and submit a SIP for the implementation, maintenance and enforcement of each NAAQS promulgated by EPA, which is commonly referred to as an “infrastructure SIP submission.” Specifically, EPA is approving the portion of Florida's January 22, 2013, SIP submission addressing element B of the infrastructure requirements, which relates to monitoring requirements. EPA is proposing that Florida's infrastructure SIP submission, provided to EPA on January 22, 2013, satisfies the infrastructure requirements related to monitoring for the 2010 1-hour NO2 NAAQS.

DATES: Written comments must be received on or before September 11, 2017.

ADDRESSES: Submit your comments, identified by Docket ID No. EPA-R04-OAR-2017-0507 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the Web, cloud, or other file sharing system). For additional submission methods, the full EPA public comment policy, information about CBI or multimedia submissions, and general guidance on making effective comments, please visit http://www2.epa.gov/dockets/commenting-epa-dockets.

FOR FURTHER INFORMATION CONTACT: Andres Febres of the Air Regulatory Management Section, Air Planning and Implementation Branch, Air, Pesticides and Toxics Management Division, U.S. Environmental Protection Agency, Region 4, 61 Forsyth Street SW., Atlanta, Georgia 30303-8960. Mr. Febres can be reached via telephone at (404) 562-8966 or via electronic mail at febres-martinez.andres@epa.gov.

SUPPLEMENTARY INFORMATION: In the Final Rules section of this issue of the Federal Register, EPA is approving this portion of Florida's January 22, 2013, SIP revision addressing the section 110(a)(2)(B) SIP requirements for the 2010 1-hour NO2 NAAQS. A detailed rationale for the approval is set forth in the direct final rule and incorporated herein by reference. If no adverse comments are received in response to this rule, no further activity is contemplated. If EPA receives adverse comments, the direct final rule will be withdrawn and all adverse comments received will be addressed in a subsequent final rule based on this proposed rule. EPA will not institute a second comment period on this document. Any parties interested in commenting on this document should do so at this time.

Dated: July 26, 2017.
V. Anne Heard,
Acting Regional Administrator, Region 4.

[FR Doc. 2017-16808 Filed 8-9-17; 8:45 am]

BILLING CODE 6560-50-P